DEPARTMENT OF DEFENSE

Office of Secretary

[Docket ID: DoD-2008-OS-0078]

Privacy Act of 1974; Systems of Records

AGENCY: Defense Commissary Agency, DoD.

ACTION: Notice to amend a System of Records.

SUMMARY: The Defense Commissary Agency (DeCA) is proposing to amend a system of records notice to its inventory of record systems subject to the Privacy Act of 1974, (5 U.S.C. 552a), as amended.

DATES: This action will be effective without further notice on August 18, 2008 unless comments are received that would result in a contrary determination.

ADDRESSES: Defense Commissary Agency, 1300 E Avenue, Fort Lee, VA 23801-1800.

FOR FURTHER INFORMATION CONTACT: Ms. Donna Williamson at (804) 734-8777.

SUPPLEMENTARY INFORMATION: The Defense Commissary Agency notices for systems of records subject to the Privacy Act of 1974 (5 U.S.C. 552a), as amended, have been published in the Federal Register and are available from the address above.

The specific changes to the record system being amended are set forth below followed by the notice, as amended, published in its entirety. The proposed amendment is not within the purview of subsection (r) of the Privacy Act of 1974, (5 U.S.C. 552a), as amended, which requires the submission of a new or altered system report.

Dated: July 11, 2008.
Patricia Toppings,
OSD Federal Register Liaison Officer, Department of Defense.

ZGC 001

SYSTEM NAME:

General Counsel Case Files (June 1, 2001, 66 FR 29777).

CHANGES:

* * * * *

CATEGORIES OF INDIVIDUALS COVERED BY THE SYSTEM:

Delete “who may”.

Delete the word “defendant” replace with “party”.

CATEGORIES OF RECORDS IN THE SYSTEM:

Delete entry and replace with “Name of the party bringing the action, witnesses, and other parties; home address; telephone numbers; location; type of case and other details including settlement and resolution.”

* * * * *

PURPOSE(S):

Delete entry and replace with “The records are used to investigate, evaluate, adjudicate, defend, prosecute, or settle claims or lawsuits.”

* * * * *

STORAGE:

Delete entry and replace with “Paper records in file folders and electronic storage media.”

RETRIEVABILITY:

Delete “or anticipated litigant”.

* * * * *

SYSTEM MANAGER(S) AND ADDRESS:

Delete entry and replace with “Supervisory Legal Administrative Specialist, Office of the General Counsel, Headquarters, Defense Commissary Agency, 1300 E. Avenue, Fort Lee, VA 23801-1800.”

* * * * *

ZGC 001

SYSTEM NAME:

General Counsel Case Files.

SYSTEM LOCATION:

Office of the General Counsel, Headquarters, Defense Commissary Agency, ATTN: GC, 1300 E Avenue, Fort Lee, VA 23801-1800.

CATEGORIES OF INDIVIDUALS COVERED BY THE SYSTEM:

Any individual who has filed a claim, a complaint or similar pleading or instituted litigation against the Defense Commissary Agency in a court, administrative body or in an established administrative dispute resolution procedure in which a Defense Commissary Agency employee or the Defense Commissary Agency is named as a party concerning matters under the cognizance of the General Counsel, Defense Commissary Agency.

CATEGORIES OF RECORDS IN THE SYSTEM:

Name of the party bringing the action, witnesses, other parties; home address, telephone numbers, location, type of case and other details including settlement and resolution.

AUTHORITY FOR MAINTENANCE OF THE SYSTEM:

5 U.S.C. 301, Department Regulations and 10 U.S.C. 2482, Commissary stores: operation.

PURPOSE(S):

The records are used to investigate, evaluate, adjudicate, defend, prosecute, or settle claims or lawsuits.

ROUTINE USES OF RECORDS MAINTAINED IN THE SYSTEM, INCLUDING CATEGORIES OF USERS AND THE PURPOSES OF SUCH USES:

In addition to those disclosures generally permitted under 5 U.S.C. 552a(b) of the Privacy Act, these records or information contained therein may specifically be disclosed outside the DoD as a routine use pursuant to 5 U.S.C. 552a(b)(3) as follows:

The DoD `Blanket Routine Uses' set forth at the beginning of the Defense Commissary Agency's compilation of systems of records notices apply to this system.

POLICIES AND PRACTICES FOR STORING, RETRIEVING, ACCESSING, RETAINING, AND DISPOSING OF RECORDS IN THE SYSTEM:

STORAGE:

Paper records in file folders and electronic storage media.

RETRIEVABILITY:

Name of litigant and case number.

SAFEGUARDS:

Paper and automated records are stored in rooms with restricted access in a secure building. Access is limited to the General Counsel staff in performance of their official duties.

RETENTION AND DISPOSAL:

Records retained for six years after final action, then destroyed. Paper records are shredded.

SYSTEM MANAGER(S) AND ADDRESS:

Supervisory Legal Administrative Specialist, Office of the General Counsel, Headquarters, Defense Commissary Agency, 1300 E Avenue, Fort Lee, VA 23801-1800.

NOTIFICATION PROCEDURE:

Individuals seeking to determine whether this system of records contains information about themselves should address written inquiries to the Freedom of Information Act/Privacy Officer, Defense Commissary Agency, 1300 E Avenue, Fort Lee, VA 23801-1800.

The request should contain the individual's full name, address, and telephone number. These items are necessary for the retrieval of information.

Requests submitted on behalf of other persons must include their written authorization.

RECORD ACCESS PROCEDURES:

Individuals seeking access to records about themselves contained in this system of records should address written inquiries to the Freedom of Information Act/Privacy Officer, Defense Commissary Agency, 1300 E Avenue, Fort Lee, VA 23801-1800.

The request should contain the individual's full name, address, and telephone number. These items are necessary for the retrieval of information.

Requests submitted on behalf of other persons must include their written authorization.

CONTESTING RECORD PROCEDURES:

The Defense Commissary Agency's rules for accessing records, for contesting contents and appealing initial agency determinations are contained in Defense Commissary Agency Directive 30-13; 32 CFR part 327; or may be obtained from the Freedom of Information Act/Privacy Officer at 1300 E Avenue, Fort Lee, VA 23801-1800.

RECORD SOURCE CATEGORIES:

From all sources with information which may impact upon actual or anticipated litigation, e.g., administrative boards, other record systems within DeCA, DoD, and third parties who provide information voluntarily or in response to discovery.

EXEMPTIONS CLAIMED FOR THE SYSTEM:

None.

[FR Doc. E8-16419 Filed 7-17-08; 8:45 am]

BILLING CODE 5001-06-P